FEDERAL COMMUNICATIONS COMMISSION

47 CFR Parts 20 and 24

[DA 01-361]

Minor Editorial Amendments to the Commercial Mobile Radio Services and Personal Communications Services

AGENCY: Federal Communications Commission.

ACTION: Final rule.

SUMMARY: This action amends two rule sections so that they use the current, rather than previous, names and subpart designations of the Public Mobile Services, and it also amends another rule section in order to revise an erroneous cross-reference.

DATES: Effective February 21, 2001.

ADDRESSES: Office of the Secretary, Federal Communications Commission, 445 12th Street SW., Washington, DC 20554.

FOR FURTHER INFORMATION CONTACT: B.C. “Jay” Jackson, Jr. (202) 418-1309.

SUPPLEMENTARY INFORMATION: This Order makes minor, non-substantive revisions to 47 CFR part 20 and 47 CFR part 24. Specifically, 47 CFR 20.9, paragraphs (a)(6) through (a)(9), and 47 CFR 20.20, paragraph (e) of this section, are amended to use the current names and subpart designations of Public Mobile Services as set forth in 47 CFR part 22. These sections currently refer to these services by previous names and subpart designations. Additionally, 47 CFR 24.133(a) is amended to revise an erroneous reference to another rule section. Currently the rule refers to a “§ 99.132(f)”. However, 47 CFR part 99 no longer exists; the correct reference is to “§ 24.132(f)” (47 CFR 24.132(f)). Because the rule amendments adopted herein are non-substantive, notice and public procedure thereon are found to be unnecessary, pursuant to 5 U.S.C. 553(b)(3)(B), and the required publication may be made less than 30 days prior to the effective date, pursuant to 5 U.S.C. 553(d).

List of Subjects

47 CFR Part 20

Radio.

47 CFR Part 24

Reporting and recordkeeping requirements.

Federal Communications Commission.
Andrew S. Fishel,
Managing Director.

Rule Changes

For reasons discussed in the preamble, the Federal Communications Commission amends 47 CFR parts 20 and 24 as follows:

PART 20—COMMERICAL MOBILE RADIO SERVICES

1. The authority citation for part 20 continues to read as follows:

Authority: 47 U.S.C. 154, 160, 251-254, 303 and 332 unless otherwise noted.

2. Section 20.9 is amended by revising paragraphs (a)(6), (a)(7), (a)(8) and (a)(9) to read as follows:

§ 20.9 Commercial mobile radio service.

(a) * * *

(6) Paging and Radiotelephone Service (part 22, subpart E of this chapter).

(7) Cellular Radiotelephone Service (part 22, subpart H of this chapter).

(8) Air-Ground Radiotelephone Service (part 22, subpart G of this chapter).

(9) Offshore Radiotelephone Service (part 22, subpart I of this chapter).

* * * * *

3. In § 20.20, paragraph (e), in the definition for Broadband Commercial Radio Service (Broadband CMRS), remove the words “Domestic Public Cellular Radio Telecommunications Service” and add, in their place, the words “Cellular Radiotelephone Service.”

PART 24—PERSONAL COMMUNICATIONS SERVICE

4. The authority citation for part 24 continues to read as follows:

Authority: 47 U.S.C. 154, 301, 302, 303, 309 and 332.

5. Section 24.133 is amended by revising paragraph (a) introductory text to read as follows:

§ 24.133 Emission limits.

(a) The power of any emission shall be attenuated below the transmitter power (P), as measured in accordance with § 24.132(f), in accordance with the following schedule:

* * * * *

[FR Doc. 01-4210 Filed 2-20-01; 8:45 am]

BILLING CODE 6712-01-U